DEPARTMENT OF COMMERCE

International Trade Administration

[A-533-828]

Notice of Antidumping Duty Order: Prestressed Concrete Steel Wire Strand from India

AGENCY: Import Administration, International Trade Administration, Department of Commerce.

ACTION: Notice of Antidumping Duty Order.

EFFECTIVE DATE: January 28, 2004.

FOR FURTHER INFORMATION CONTACT: Tisha Loeper-Viti or Martin Claessens at (202) 482-7425 or (202) 482-5451, respectively; AD/CVD Enforcement Group II, Office 5, Import Administration, Room 1870, International Trade Administration, U.S. Department of Commerce, 14th Street and Constitution Avenue, NW, Washington, DC 20230.

SUPPLEMENTARY INFORMATION:

Background

On December 8, 2003, the Department of Commerce (Department) published its final determination in the antidumping duty investigation of prestressed concrete steel wire strand (PC strand) from India. See Notice of Final Determination of Sales at Less Than Fair Value: Prestressed Concrete Steel Wire Strand from India, 68 FR 68352 (December 8, 2003).

On January 21, 2004 the International Trade Commission (ITC) notified the Department of its final determination pursuant to section 735(b)(1)(A)(i) of the Tariff Act of 1930, as amended (the Act), that an industry in the United States is materially injured by reason of less-than-fair-value imports of subject merchandise from India.

Scope Of The Order

For purposes of this order, PC strand is steel strand produced from wire of non-stainless, non-galvanized steel, which is suitable for use in prestressed concrete (both pre-tensioned and post-tensioned) applications. The product definition encompasses covered and uncovered strand and all types, grades, and diameters of PC strand.

The merchandise subject to the order is currently classifiable under subheadings 7312.10.3010 and 7312.10.3012 of the Harmonized Tariff Schedule of the United States (HTSUS). Although the HTSUS subheadings are provided for convenience and customs purposes, the written description of the merchandise under the order is dispositive.

Antidumping Duty Order

On January 21, 2004, in accordance with section 735(d) of the Act, the ITC notified the Department of its final determination that the industry in the United States producing PC strand is materially injured within the meaning of section 735(b)(1)(A)(i) of the Act by reason of imports of the subject merchandise from India.

In accordance with section 736(a)(1) of the Act, the Department will direct U.S. Customs and Border Protection (CBP) to assess, upon further advice by the Department, antidumping duties equal to the amount by which the normal value of the merchandise exceeds the export price or constructed export price of the merchandise for all relevant entries of PC strand from India. These antidumping duties will be assessed on (1) all unliquidated entries of PC strand from India entered, or withdrawn from warehouse, for consumption on or after July 17, 2003, the date on which the Department published its notice of preliminary determination in the Federal Register,¹ and before January 13, 2004, the date on which the Department is required, pursuant to section 733(d) of the Act, to terminate the suspension of liquidation; and (2) on all subject merchandise entered, or withdrawn from warehouse, for consumption on or after the date of publication of the ITC's notice of final determination in the Federal Register. Entries of PC strand from India made between January 13, 2004, and the day preceding the date of publication of the ITC's notice of final determination in the Federal Register are not liable for the assessment of antidumping duties due to the Department's termination, effective January 13, 2004, of the suspension of liquidation.

¹ See Notice of Preliminary Determination of Sales at Less Than Fair Value: Prestressed Concrete Steel Wire Strand from India, 68 FR 42389 (July 17, 2003).

On or after the date of publication of the ITC's notice of final determination in the Federal Register, CBP must require, at the same time as importers would normally deposit estimated duties on this merchandise, a cash deposit equal to the estimated weighted-average dumping margins as noted below. The weighted-average dumping margins are as follows:

Manufacturer/exporter | Margin (percent)
Tata Iron and Steel Co., Ltd. (TISCO) | 102.07
All Others | 83.65

This notice constitutes the antidumping duty order with respect to PC strand from India, pursuant to section 736(a) of the Act. Interested parties may contact the Department's Central Records Unit, Room B-099 of the Main Commerce Building, for copies of an updated list of antidumping duty orders currently in effect.

This order is issued and published in accordance with section 736(a) of Act and 19 CFR 351.211.

Dated: January 22, 2004.
James J. Jochum,
Assistant Secretary for Import Administration.

[FR Doc. 04-1826 Filed 1-27-04; 8:45 am]

BILLING CODE 3510-DS-S